FEDERAL PERMITTING IMPROVEMENT STEERING COUNCIL

[ICR Ref. No. 202312-3121-001; OMB Control No. 3121-0002]

Agency Information Collection Activities: Proposed Collection; Comment Request

AGENCY: Federal Permitting Improvement Steering Council.

ACTION: 30-Day notice; request for comment.

SUMMARY: The Federal Permitting Improvement Steering Council (Permitting Council) Executive Director invites the public and Federal agencies to comment on an existing information collection request (ICR) 3121-0002. The information collection was previously published in the Federal Register on January 19, 2024 for a 60-day public comment period. No comments were received for this information collection. The purpose of this notice is to allow an additional 30 days for public comments.

DATES: Please send your comments on this ICR on or before May 24, 2024.

ADDRESSES: Please send your comments to www.reginfo.gov/public/do/PRAMain. Find this information collection by selecting “Currently under 30-day Review—Open for Public Comments” or by using the search function. Please reference OMB Control Number 3121-0002, “ERIF Tribal Assistance Program Application” in the subject line of your comments. Please also provide a copy of your comments to ERIF@fpisc.gov with the subject line: “ERIF TAP Information Collection Comment.” You may obtain copies of the proposed collection of information by emailing ERIF@fpisc.gov. Please identify all requests by including “ERIF TAP” in the subject line.

FOR FURTHER INFORMATION CONTACT: John Flores, at john.flores@fpisc.gov, or (385) 602-2138.

SUPPLEMENTARY INFORMATION: The Permitting Council publishes this notice in the Federal Register and invites comments in accordance with the Paperwork Reduction Act of 1995. The Permitting Council Executive Director is soliciting comment on any aspect of this information collection, including: (a) whether the proposed collection of information is necessary for the proper performance of the functions of the agency, including whether the information will have practical utility; (b) the accuracy of the agency's estimate of the burden of the proposed collection of information; (c) the quality, utility, and clarity of the information to be collected; and (d) ways to minimize the burden of the collection of information on respondents, including through the use of automated collection techniques or other forms of information technology.

Title of the Program Seeking Information Collection: Environmental Review Improvement Fund Tribal Assistance Program (ERIF TAP).

Type of Review: New Information Collection Request (ICR).

Background: Established in 2015 by title 41 of the Fixing America's Surface Transportation Act (FAST-41), 42 U.S.C. 4370m et seq., the Permitting Council is a unique Federal agency charged with improving the transparency and predictability of the Federal environmental review and authorization process for certain infrastructure projects. The Permitting Council is comprised of the Permitting Council Executive Director, who serves as the Council Chair; 13 Federal agency Council members (including deputy secretary-level designees of the Secretaries of Agriculture, Army, Commerce, Interior, Energy, Transportation, Defense, Homeland Security, and Housing and Urban Development, the Administrator of the Environmental Protection Agency, and the Chairs of the Federal Energy Regulatory Commission, Nuclear Regulatory Commission, and the Advisory Council on Historic Preservation); and the Chair of the Council on Environmental Quality and the Director of the OMB. 42 U.S.C. 4370m-1(a) & (b).

The Permitting Council coordinates Federal environmental reviews ¹ and authorizations ² for projects that seek and qualify for FAST-41 coverage. FAST-41 covered projects are entitled to comprehensive permitting timetables and transparent, collaborative management of those timetables on the Federal Permitting Dashboard in compliance with FAST-41 procedural requirements. 42 U.S.C. 4370m-2(c) & (d). Sponsors of FAST-41 covered projects also benefit from the direct engagement of the Permitting Council Executive Director and the Permitting Council members in timely identification and resolution of permitting issues that affect covered projects' permitting timetables.

¹ 42 U.S.C. 4370m(11) (defining “environmental review” as “the agency procedures and processes for applying a categorical exclusion or for preparing an environmental assessment, an environmental impact statement, or other document required under [the National Environmental Policy Act]”).

² 42 U.S.C. 4370m(3) (defining “authorization” as “any license, permit, approval, finding, determination, or other administrative decision issued by an agency and any interagency consultation that is required or authorized under Federal law in order to site, construct, reconstruct, or commence operations of a covered project administered by a Federal agency or, in the case of a State that chooses to participate in the environmental review and authorization process in accordance with [42 U.S.C.] 4370m-2(c)(3)(A) . . . , a State agency”).

The Permitting Council Executive Director, with the approval of the OMB Director, also may transfer funds from the Environmental Review and Improvement Fund (ERIF) to Federal agencies and state, local, and tribal governments to make the environmental review and authorization process for FAST-41 covered projects more timely and efficient. 42 U.S.C. 4370m-8(d)(3). Executive Director has established the ERIF Tribal Assistance Program (TAP) to facilitate the distribution of ERIF funds to Tribal governments pursuant to this authority.

This collection is necessary for administration of the ERIF TAP in accordance with 42 U.S.C. 4370m-8(d)(3). The Executive Director seeks public comment on the application form that the Executive Director would use to collect information from Tribal governments that seek ERIF TAP funding. The form will be used by the Executive Director to evaluate the eligibility of each Tribal government applicant, and determine whether, the circumstances under which, and the amount of any ERIF funds that may be transferred to a Tribal government applicant pursuant to 42 U.S.C. 4370m-2(d)(3). Seeking ERIF funds under the ERIF TAP is voluntary with each Tribal government. The application form is planned as a one-time information collection per applicant. The Permitting Council estimates that it will take approximately 40 hours to complete the application form for ERIF TAP funds.

Respondents: Federally-recognized Indian Tribe consulting on or engaged in the Federal environmental review and authorization process (e.g., through the National Environmental Policy Act or Section 106 of the National Historic Preservation Act) for one or more FAST-41 covered projects that are posted on the Permitting Dashboard at the time of submission.

Frequency: One time per grant application.

Application: To be considered to receive ERIF TAP funds, an eligible Tribal government must submit a completed application form to the Permitting Council Executive Director that contains the information required in the Application Instructions. At a minimum, the applicant must include contact information, the amount of funding requested, what will be accomplished with the funding (i.e., activities and funding level per activity), which FAST-41 covered projects the applicant is consulting on or engaged in, and how the funded activities will result in more timely and efficient environmental review and authorization of those FAST-41 covered projects. The application should include the information necessary for the Permitting Council Executive Director to determine that the project and proposal satisfies eligibility requirements.

Completed application forms must be submitted to the Executive Director through ERIF@fpisc.gov. Instructions for submitting applications can be found at https://www.permits.performance.gov/fpisc-content/erif-tribal-assistance-program.

Estimated Burden: The estimated burden for completing an application form is as follows:

Expected Number of Respondents: Approximately 30 per year.

Frequency: Once per application.

Estimated Average Burden per Response: 40 hours for each new application form.

Authority: 44 U.S.C. 3501 et seq.; 42 U.S.C. 4370m-8(d)(3).

Dated: April 8, 2024
Eric Beightel,
Executive Director, Federal Permitting Improvement Steering Council.

[FR Doc. 2024-08514 Filed 4-23-24; 8:45 am]

BILLING CODE 6820-PL-P